ENVIRONMENTAL PROTECTION AGENCY

[ER-FRL-6621-6]

Environmental Impact Statements; Notice of Availability

Responsible Agency: Office of Federal Activities, General Information (202) 564-7167 or www.epa.gov/oeca/ofa

Weekly receipt of Environmental Impact Statements

Filed August 27, 2001 Through August 31, 2001

Pursuant to 40 CFR 1506.9.

EIS No. 010330, Draft EIS, AFS, MT, Kelsey-Beaver Fire Recovery Project, Implementation of Fuel Reduction and Salvage of Fire-Killed Trees within Roderick South, Kelsey Creek, and Upper Beaver Areas, Kootenai National Forest, Three Rivers Ranger District, Lincoln County, MT, Comment Period Ends: October 22, 2001, Contact: Kathy Mohar (406) 295-4693.

EIS No. 010331, Final EIS, BPA, OR, Condon Wind Project, To Execute One or More Power Purchase and Transmission Services Agreements To Acquire and Transmit up to the Full Electrical Output, NPDES Permits and Right-of-Way Permit for Public Land, Gilliam County, OR, Wait Period Ends: October 9, 2001, Contact: Sarah Branum (503) 230-5115. This document is available on the Internet at: www.efw.bpa.gov.

EIS No. 010332, Final Supplement, SFW, NY, VT, Lake Champlain Sea Lamprey Control Long-Term Program, Proposal is to Achieve Fish Population, Recreational Fishery and Economic Benefits Associated with Reduced Sea Lamprey Predation Implementation, Clinton, Essex and Washington Counties, NY and Addison and Chittenden Counties, VT, Wait Period Ends: October 9, 2001, Contact: David C. Nettles (802) 872-0629.

EIS No. 010333, Final EIS, CDB, CA, West Hollywood Gateway Public/Private Partnership Construction Project, Multi-Story Office, Retail, Restaurant and Entertainment Use Development, Community Development Block Grant (CDBG) Funds Issuance, City of West Hollywood, Los Angeles County, CA, Wait Period Ends: October 9, 2001, Contact: DeAnn Johnson (323) 890-7186. This document is available on the Internet at: http://www.lacdc.org.

EIS No. 010334, Draft EIS, IBR, CA, American River Pump Station Project, Providing Placer County Water Agency (PCWA) with the Year-Round Access to its Middle Fork Project (MFP) Water Entitlements from the American River, Placer County, CA, Comment Period Ends: October 22, 2001, Contact: Rod Hall (916) 989-7279.

EIS No. 010335, Draft EIS, FHW, CA, CA-22/West Orange County Connection Project, Transportation Improvements between Interstate 605 and State Route 55, In the cities of Los Alamitos, Seal Beach, Garden Grove, Westminster, Santa Ana, and Orange, Orange County, CA, Comment Period Ends: October 30, 2001, Contact: Robert Cady (916) 498-5038.

EIS No. 010336, Final EIS, FAA, IL, WI, IN, Chicago Terminal Airspace Project (CTAP), For Proposed Air Traffic Control Procedures and Airspace Modification for Aircraft Operations to/from the Chicago Region, Including Chicago O'Hare International Airport, Chicago Midway Airport, Milwaukee Mitchell International Airport, IL, IN and WI, Wait Period Ends: October 9, 2001, Contact: Annette Davis (847) 294-8091.

Amended Notices

EIS No. 010246, Draft Supplement, MMS, ID, Smoky Canyon Mine Panels B and C, Propose to Mine Phosphate Ore Reserves in the Final Two Mine Panels, National Forest System Lands and Federal Mineral Leases, Caribou National Forest, Permit, Caribou County, ID, Due: October 11, 2001, Contact: Jeffery Cundick (208) 478-6354. Revision of FR Notice Published on 7/13/2001: CEQ Review Period Ending on 9/11/2001 has been Extended to 10/11/2001.

EIS No. 010267, Final EIS, GSA, DC, Department of Transportation Headquarters, Proposal to Lease 1.3 to 1.35 Million Rentable Square Feet of Consolidated and Upgraded Space, Five Possible Sites, Located in the Central Employment Area, Washington, D.C., Due: August 27, 2001, Contact: John Simeon (202) 260-5786. Revision of FR notice published on 7/27/2001: CEQ Comment Period Ending 9/4/2001 has been Corrected to 8/27/2001.

EIS No. 010285, Draft Supplement, AFS, CO, Uncompahgre National Forest Travel Plans Revision, and Forest Plan Amendment, Updated Information, Grand Mesa, Uncompahgre and Gunnison National Forests, Garrison, Hinsdale Mesa, Montrose, Ouray, San Juan Counties, CO, Due: October 1, 2001, Contact: Jeff Burch (970) 874-6600. Revision of FR Notice Published on 8/3/2001: CEQ Review Period Ending 9/17/2001 has been extended to 10/1/2001.

Dated: September 4, 2001.
B. Katherine Biggs,
Associate Director, NEPA Compliance Division, Office of Federal Activities.

[FR Doc. 01-22549 Filed 9-6-01; 8:45 am]

BILLING CODE 6560-60-U